FEDERAL RETIREMENT THRIFT INVESTMENT BOARD

5 CFR Part 1600

Blended Retirement System; Correction

AGENCY: Federal Retirement Thrift Investment Board.

ACTION: Final rule; correction.

SUMMARY: The Federal Retirement Thrift Investment Board (“FRTIB”) is correcting a final rule that appeared in the Federal Register on December 19, 2017. The document issued final regulations implementing the new Blended Retirement System. The correction is a technical amendment to a cross-reference.

DATES: This rule is effective January 1, 2018.

FOR FURTHER INFORMATION CONTACT: Brandon Ford, Attorney-Advisor, Federal Retirement Thrift Investment Board, Office of General Counsel, 77 K Street NE, Suite 1000, Washington, DC 20002, 202-864-8734, Brandon.Ford@tsp.gov.

SUPPLEMENTARY INFORMATION: In FR Doc. 17-27304 appearing on page 60102 in the Federal Register of Tuesday, December 19, 2017, the following corrections are made:

§ 1600.19 [Corrected]

1. On page 60102, in the second column, in § 1600.19, in paragraph (a), in the first sentence, “paragraph (d)” is corrected to read “paragraph (c)”.

2. On page 60102, in the second column, in § 1600.19, in the introductory text of paragraph (b)(1), “paragraph (d)” is corrected to read “paragraph (c)”.

Dated: December 21, 2017.
Megan Grumbine,
General Counsel and Liaison Officer.

[FR Doc. 2017-27964 Filed 12-26-17; 8:45 am]

BILLING CODE 6760-01-P